PENSION BENEFIT GUARANTY CORPORATION

Submission of Information Collection for OMB Review; Comment Request; Locating and Paying Participants

AGENCY: Pension Benefit Guaranty Corporation.

ACTION: Notice of request to OMB for approval of modifications to information collection.

SUMMARY: Pension Benefit Guaranty Corporation is requesting that the Office of Management and Budget (“OMB”) approve modifications to a collection of information under the Paperwork Reduction Act (OMB control number 1212-0055; expires September 30, 2011). The purpose of the information collection is to enable PBGC to locate and pay benefits to participants and beneficiaries in plans covered by the PBGC insurance program. PBGC intends to add three new forms to the information collection and to modify an approved form. This notice informs the public of the PBGC's request and solicits public comment on the collection of information.

DATES: Comments should be submitted by September 8, 2010.

ADDRESSES: Comments should be sent to the Office of Information and Regulatory Affairs, Office of Management and Budget, Attention: Desk Officer for Pension Benefit Guaranty Corporation, via electronic mail at OIRA_DOCKET@omb.eop.gov, or by fax to (202) 395-6974. Copies of the collection of information may also be obtained without charge by writing to the Disclosure Division of the Office of the General Counsel of PBGC at the above address or by visiting the Disclosure Division or calling 202-326-4040 during normal business hours. (TTY and TDD users may call the Federal relay service toll-free at 1-800-877-8339 and ask to be connected to 202-326-4040.) The Disclosure Division will e-mail, fax, or mail the requested information to you, as you request.

FOR FURTHER INFORMATION CONTACT: Jo Amato Burns, Attorney, or Catherine B. Klion, Manager, Regulatory and Policy Division, Legislative and Regulatory Department, Pension Benefit Guaranty Corporation, 1200 K Street, NW., Washington, DC 20005-4026, 202-326-4024, ext. 3072 (Burns) or 3041 (Klion). (For TTY/TDD users, call the Federal relay service toll-free at 1-800-877-8339 and ask to be connected to 202-326-4024.)

SUPPLEMENTARY INFORMATION: The PBGC is requesting that OMB approve modifications to an information collection needed to locate and pay participants and beneficiaries who may be entitled to pension benefits under a defined benefit plan that has terminated. The collection consists of information that participants and beneficiaries are asked to provide when applying for benefits. In addition, in some instances, as part of a search for participants and beneficiaries who may be entitled to benefits, the PBGC requests individuals to provide identifying information that the individual would provide as part of an initial contact with the PBGC. The information collection also includes My Pension Benefit Account (My PBA), an application on PBGC's Web site, http://www.pbgc.gov, through which plan participants and beneficiaries may conduct electronic transactions with PBGC, including applying for pension benefits, designating a beneficiary, granting a power of attorney, changing contact information, and applying for electronic direct deposit. All requested information is needed to enable the PBGC to determine benefit entitlements and to make appropriate payments, or to provide respondents with specific information about their pension plan so they may obtain rough estimates of their benefits.

Most of the applications and forms are covered by the current approval. However, PBGC intends to add three new forms to the information collection and intends to modify an existing form. Two of the new forms will be used to confirm continuing eligibility of participants who are receiving benefits based on disability. The other new form will be used to determine whether participants are eligible for additional pension service credit under the Uniformed Services Employment and Reemployment Rights Act, which establishes specific rights for reemployed service members in their employee pension benefit plans. (See PBGC's final regulation on USERRA Benefits under Title IV of ERISA, 74 FR 59093 (Nov. 17, 2009).) PBGC also intends to modify PBGC Form 704 (Request for Earnings Information) to eliminate the requirement that respondents provide copies of IRS Form W-2 (Wage and Tax Statement) to confirm their earnings.

The collection of information under the regulation has been approved by OMB under control number 1212-0055 (expires September 30, 2011). An agency may not conduct or sponsor, and a person is not required to respond to, a collection of information unless it displays a currently valid OMB control number.

PBGC estimates that 84,800 benefit application or information forms will be filed annually by individuals entitled to benefits from the PBGC and that the associated burden is 63,550 hours (an average of about 45 minutes per response) and $3,730 (based on PBGC's estimate that less than 10% of all benefit applications and information forms submitted annually to PBGC will be by mail, at an average of $.44 per submission). PBGC further estimates that 12,000 individuals annually will provide the PBGC with identifying information as part of an initial contact and that the associated burden is 3,500 hours (an average of about 20 minutes per response). Thus, the total estimated annual burden associated with this collection of information is 67,050 hours and $3,730.

Issued in Washington, DC, August 3, 2010.
John H. Hanley,
Director, Legislative and Regulatory Department, Pension Benefit Guaranty Corporation.

[FR Doc. 2010-19515 Filed 8-6-10; 8:45 am]

BILLING CODE 7709-01-P